DEPARTMENT OF ENERGY

Office of Energy Efficiency and Renewable Energy

[Case No. CW-027]

Energy Conservation Program for Consumer Products: Decision and Order Granting a Waiver to Samsung Electronics America, Inc. From the Department of Energy Residential Clothes Washer Test Procedure

AGENCY: Office of Energy Efficiency and Renewable Energy, Department of Energy.

ACTION: Decision and order.

SUMMARY: The U.S. Department of Energy (DOE) gives notice of a decision and order (Case No. CW-027) that grants to Samsung Electronics America, Inc. (Samsung) a waiver from the DOE test procedure for determining the energy consumption of clothes washers. Under this decision and order, Samsung is required to test and rate its clothes washers with clothes containers greater than 6.0 cubic feet using an alternate test procedure that takes this larger capacity into account when measuring energy consumption.

DATES: This Decision and Order is effective April 10, 2017.

FOR FURTHER INFORMATION CONTACT: Mr. Bryan Berringer, U.S. Department of Energy, Building Technologies Program, Mail Stop EE-5B, Forrestal Building, 1000 Independence Avenue SW., Washington, DC 20585-0121. Telephone: (202) 586-0371. Email: Bryan.Berringer@ee.doe.gov.

Ms. Elizabeth Kohl, U.S. Department of Energy, Office of the General Counsel, Mail Stop GC-33, Forrestal Building, 1000 Independence Avenue SW., Washington, DC 20585-0103. Telephone: (202) 586-7796. Email: Elizabeth.Kohl@hq.doe.gov.

SUPPLEMENTARY INFORMATION: In accordance with Title 10 of the Code of Federal Regulations (10 CFR 430.27(f)(2)), DOE gives notice of the issuance of its decision and order as set forth below. The decision and order grants Samsung a waiver from the applicable clothes washer test procedure in 10 CFR part 430, subpart B, appendix J2 for certain basic models of clothes washers with capacities greater than 6.0 cubic feet, provided that Samsung tests and rates such products using the alternate test procedure described in this notice. Samsung's representations concerning the energy efficiency of these products must be based on testing consistent with the provisions and restrictions in the alternate test procedure set forth in the decision and order below, and the representations must fairly disclose the test results. Distributors, retailers, and private labelers are held to the same standard when making representations regarding the energy efficiency of these products. 42 U.S.C. 6293(c).

Not later than June 9, 2017, any manufacturer currently distributing in commerce in the United States a product employing a technology or characteristic that results in the same need for a waiver from the clothes washer test procedure must submit a petition for waiver. 10 CFR 430.27(j). Manufacturers not currently distributing such products in commerce in the United States must petition for and be granted a waiver prior to distribution in commerce in the United States. Manufacturers may also submit a request for interim waiver pursuant to the requirements of 10 CFR 430.27.

Issued in Washington, DC, on April 4, 2017.
Kathleen Hogan,
Deputy Assistant Secretary for Energy Efficiency, Energy Efficiency and Renewable Energy.

Decision and Order

In the Matter of: Samsung Electronics America, Inc. (Case No. CW-027)

I. Background and Authority

Title III, Part B of the Energy Policy and Conservation Act of 1975 (EPCA) (42 U.S.C. 6291-6309) established the Energy Conservation Program for Consumer Products Other Than Automobiles, a program that includes residential clothes washers.¹ Part B includes definitions, test procedures, labeling provisions, energy conservation standards, and the authority to require information and reports from manufacturers. Further, Part B authorizes the Secretary of Energy to prescribe test procedures that are reasonably designed to produce results measuring energy efficiency, energy use, or estimated operating costs, and that are not unduly burdensome to conduct. (42 U.S.C. 6293(b)(3)) The test procedure for residential clothes washers is contained in 10 CFR part 430, subpart B, appendix J2.

¹ For editorial reasons, upon codification in the U.S. Code, Part B was re-designated Part A.

The regulations set forth in 10 CFR 430.27 contain provisions that allow a person to seek a waiver from the test procedure requirements for a particular basic model of a type of covered product when that basic model contains one or more design characteristics that: (1) Prevent testing according to the prescribed test procedure, or (2) cause the prescribed test procedures to evaluate the basic model in a manner so unrepresentative of its true energy consumption characteristics as to provide materially inaccurate comparative data. 10 CFR 430.27(a)(1). DOE may grant the waiver subject to conditions, including adherence to alternate test procedures. 10 CFR 430.27(f)(2).

II. Samsung's Petition for Waiver: Assertions and Determinations

On August 24, 2016, Samsung submitted a petition for waiver from the DOE test procedure applicable to automatic and semi-automatic clothes washers set forth in 10 CFR part 430, subpart B, appendix J2. Samsung requested the waiver because the mass of the test load used in the procedure, which is based on the basket volume of the test unit, is currently not defined for basket sizes greater than 6.0 cubic feet. In its petition, Samsung seeks a waiver for a specified basic model with a capacity greater than 6.0 cubic feet. Table 5.1 of Appendix J2 defines the test load sizes used in the test procedure as linear functions of the basket volume. Samsung requests that DOE grant a waiver for testing and rating based on a revised Table 5.1. (See 77 FR 13888, Mar. 7, 2012; the “March 2012 Final Rule”)

Samsung also requested an interim waiver from the existing DOE test procedure, which DOE granted. See 81 FR at 87030 (Dec. 2, 2016). After reviewing the alternate procedure suggested by Samsung, DOE granted the interim waiver because DOE concluded that it would allow for the accurate measurement of the energy use of these products, while alleviating the testing problems associated with testing clothes washers with capacities greater than 6.0 cubic feet.

Samsung's petition was published in the Federal Register on December 2, 2016. 81 FR 87030. DOE received three comments from consumers opposing Samsung's petition due to recent recall of Samsung clothes washers. (Consumer Commenters, Nos. 3 at p. 1, 4 at p. 4, and 5 at p. 1) ² The recall pertains to the washing machine top can unexpectedly detach from the washing machine chassis during use, posing a risk of injury from impact. This recall involves 34 models of Samsung top-load washing machines. Although the comments are about specific Samsung clothes washers that have been manufactured, the comments did not address the merits of the waiver, which would extend Table 5.1 of appendix J2 up to 8.0 cu. ft. for clothes washers that have not been manufactured for sale to date.

² A notation in the form “Consumer Commenters, No. 3 at p. 1, 4 at p. 4 and 5 at p. 1” identifies written comments: (1) Made by the Coy Garrett, Liz Rowan and Julia Ramirez (hereinafter the “Consumer Commenters”); (2) recorded in document numbers 3, 4 and 5 that are filed in the docket of this waiver (Docket No. EERE-2016-BT-WAV-0038) and available for review at www.regulations.gov; and (3) which appears on page 1 of document number 3, page 4 of document 4, and page 1 of document 5.

DOE granted a waiver to Whirlpool under a Decision and Order (81 FR 26251, May 2, 2016) to allow for the testing of clothes washers with container volumes between 6.0 cubic feet and 8.0 cubic feet. DOE also granted a waiver to Samsung for a similar request under two Decisions and Orders (76 FR 13169, Mar. 10, 2011; 76 FR 50207, Aug. 12, 2011) to allow for the testing of clothes washers with container volumes between 3.8 cubic feet and 6.0 cubic feet. In addition to the previous waiver granted to Samsung, DOE granted waivers to LG (CW-016 (76 FR 11233, Mar. 1, 2011), CW-018 (76 FR 21879, Apr. 19, 2011), and CW-021 (76 FR 64330, Oct. 18, 2011)); General Electric (75 FR 76968, Dec. 10, 2010); Whirlpool (75 FR 69653, Nov. 15, 2010); and Electrolux (76 FR 11440, Mar. 2, 2011) to allow for the testing of clothes washers with container volumes between 3.8 cubic feet and 6.0 cubic feet.

For the reasons set forth in DOE's March 2012 Final Rule, DOE concludes that extending the linear relationship between test load size and container capacity to larger capacities represents the best possible approach to determining load size for large capacity washers. DOE will continue to evaluate this issue in the next revision to the DOE test procedure in appendix J2. In addition, DOE determines that testing a basic model with a capacity larger than 6.0 cubic feet using the current procedure at Appendix J2 could evaluate the basic models in a manner so unrepresentative of their true energy consumption as to provide materially inaccurate comparative data.

III. Consultations with Other Agencies

DOE consulted with the Federal Trade Commission (FTC) staff concerning the Samsung petition for waiver. The FTC staff did not have any objections to granting a waiver to Samsung.

IV. Order

After careful consideration of all the material that was submitted by Samsung and the commenters, the testing and analysis conducted for the March 2012 Final Rule, and consultation with the FTC staff, in accordance with 10 CFR 430.27, it is ORDERED that:

(1) The petition for waiver submitted by the Samsung Electronics America, Inc. (Case No. CW-027) is hereby granted as set forth in the paragraphs below.

(2) Samsung must test and rate the Samsung basic model specified in paragraph (3) on the basis of the current test procedure contained in 10 CFR part 430, subpart B, appendix J2, except that Table 5.1 of appendix J2 is supplemented by the following additional rows:

Table 5.1—Test Load Sizes—Supplement
Container volume: cu. ft. ≥ < | Container volume: liter ≥ < | Minimum load: lb | Minimum load: kg | Maximum load: lb | Maximum load: kg | Average load: lb | Average load: Kg
6.00-6.10 | 169.9-172.7 | 3.00 | 1.36 | 24.80 | 11.25 | 13.90 | 6.30
6.10-6.20 | 172.7-175.6 | 3.00 | 1.36 | 25.20 | 11.43 | 14.10 | 6.40
6.20-6.30 | 175.6-178.4 | 3.00 | 1.36 | 25.60 | 11.61 | 14.30 | 6.49
6.30-6.40 | 178.4-181.2 | 3.00 | 1.36 | 26.00 | 11.79 | 14.50 | 6.58
6.40-6.50 | 181.2-184.1 | 3.00 | 1.36 | 26.40 | 11.97 | 14.70 | 6.67
6.50-6.60 | 184.1-186.9 | 3.00 | 1.36 | 26.90 | 12.20 | 14.95 | 6.78
6.60-6.70 | 186.9-189.7 | 3.00 | 1.36 | 27.30 | 12.38 | 15.15 | 6.87
6.70-6.80 | 189.7-192.6 | 3.00 | 1.36 | 27.70 | 12.56 | 15.35 | 6.96
6.80-6.90 | 192.6-195.4 | 3.00 | 1.36 | 28.10 | 12.75 | 15.55 | 7.05
6.90-7.00 | 195.4-198.2 | 3.00 | 1.36 | 28.50 | 12.93 | 15.75 | 7.14
7.00-7.10 | 198.2-201.0 | 3.00 | 1.36 | 28.90 | 13.11 | 15.95 | 7.23
7.10-7.20 | 201.0-203.9 | 3.00 | 1.36 | 29.30 | 13.29 | 16.15 | 7.33
7.20-7.30 | 203.9-206.7 | 3.00 | 1.36 | 29.70 | 13.47 | 16.35 | 7.42
7.30-7.40 | 206.7-209.5 | 3.00 | 1.36 | 30.10 | 13.65 | 16.55 | 7.51
7.40-7.50 | 209.5-212.4 | 3.00 | 1.36 | 30.60 | 13.88 | 16.80 | 7.62
7.50-7.60 | 212.4-215.2 | 3.00 | 1.36 | 31.00 | 14.06 | 17.00 | 7.71
7.60-7.70 | 215.2-218.0 | 3.00 | 1.36 | 31.40 | 14.24 | 17.20 | 7.80
7.70-7.80 | 218.0-220.9 | 3.00 | 1.36 | 31.80 | 14.42 | 17.40 | 7.89
7.80-7.90 | 220.9-223.7 | 3.00 | 1.36 | 32.20 | 14.61 | 17.60 | 7.98
7.90-8.00 | 223.7-226.5 | 3.00 | 1.36 | 32.60 | 14.79 | 17.80 | 8.07

(3) This order applies only to the following basic model: WA63M97**A*.

(4) This waiver shall remain in effect consistent with the provisions of 10 CFR 430.27.

Issued in Washington, DC, on 4/4/2017.

Kathleen B. Hogan,

Deputy Assistant Secretary for Energy Efficiency, Energy Efficiency and Renewable Energy.

[FR Doc. 2017-07108 Filed 4-7-17; 8:45 am]

BILLING CODE 6450-01-P